DEPARTMENT OF HOMELAND SECURITY

Federal Emergency Management Agency

[Docket ID FEMA-2016-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of November 4, 2016 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Rick Sacbibit, Chief, Engineering Services Branch, Federal Insurance and Mitigation Administration, FEMA, 500 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: August 3, 2016.
Roy E. Wright,
Deputy Associate Administrator for Insurance and Mitigation, Department of Homeland Security, Federal Emergency Management Agency.

Community | Community map repository address
Sarasota County, Florida and Incorporated Areas
Docket No.: FEMA-B-1461
City of North Port | Building Office, 4970 City Hall Boulevard, North Port, FL 34286.
City of Sarasota | City Hall, 1565 1st Street, Sarasota, FL 34236.
City of Venice | City Hall, 401 West Venice Avenue, Venice, FL 34285.
Town of Longboat Key | Public Works Department, 600 General Harris Street, Longboat Key, FL 34228.
Unincorporated Areas of Sarasota County | Sarasota County Zoning Department, 1001 Sarasota Center Boulevard, Sarasota, FL 34240.
Plymouth County, Massachusetts (All Jurisdictions)
Docket No.: FEMA-B-1326
Town of Duxbury | Town Hall, 878 Tremont Street, Duxbury, MA 02332.
Town of Kingston | Town Hall, 26 Evergreen Street, Kingston, MA 02364.
Town of Marshfield | Town Hall, 870 Moraine Street, Marshfield, MA 02050.
Town of Norwell | Town Hall, 345 Main Street, Norwell, MA 02061.
Town of Plymouth | Town Hall, 11 Lincoln Street, Plymouth, MA 02360.
Town of Scituate | Town Hall, 600 Chief Justice Cushing Highway, Scituate, MA 02066.
Bernalillo County, New Mexico and Incorporated Areas
Docket No.: FEMA-B-1523
City of Albuquerque | Development Review Services Division, 600 2nd Street Northwest, Suite 201, Albuquerque, NM 87102.
Unincorporated Areas of Bernalillo County | Bernalillo County Public Works Division, 2400 Broadway Southeast, Albuquerque, NM 87102.
San Patricio County, Texas and Incorporated Areas
Docket No.: FEMA-B-1510
City of Aransas Pass | City Hall, 600 West Cleveland Boulevard, Aransas Pass, TX 78336.
City of Gregory | City Hall, 204 West 4th Street, Gregory, TX 78359.
City of Ingleside | City Hall Annex, 2665 San Angelo Street, Ingleside, TX 78362.
City of Ingleside on the Bay | Ingleside on the Bay City Hall, 475 Starlight Drive, Ingleside, TX 78362.
City of Lake City | City Hall, 132 Cox Drive, Lake City, TX 78368.
City of Lakeside | Community Center, 101 Weber Lane, Lakeside, TX 78368.
City of Mathis | City Hall, 411 East San Patricio Avenue, Mathis, TX 78368.
City of Odem | City Hall, 514 Voss Avenue, Odem, TX 78370.
City of Portland | Public Works, 1101 Moore Avenue, Portland, TX 78374.
City of San Patricio | City Hall, 4516 Main Street, San Patricio, TX 78368.
City of Sinton | City Hall, 301 East Market Street, Sinton, TX 78387.
City of Taft | City Hall, 501 Green Avenue, Taft, TX 78390.
Unincorporated Areas of San Patricio County | Plymouth Annex Building, 313 North Rachal Avenue, Sinton, TX 78387.

[FR Doc. 2016-19668 Filed 8-17-16; 8:45 am]

BILLING CODE 9110-12-P